DEPARTMENT OF THE TREASURY

Bureau of Alcohol, Tobacco and Firearms

27 CFR Part 170

[T.D. ATF-439]

RIN 1512-AC23

Delegation of Authority in Part 170

AGENCY: Bureau of Alcohol, Tobacco and Firearms (ATF), Treasury.

ACTION: Treasury decision, final rule.

SUMMARY: This final rule places all ATF authorities contained in part 170, title 27 Code of Federal Regulations (CFR), with the “appropriate ATF officer” and requires that persons file documents required by 27 CFR part 170, with the “appropriate ATF officer.” Also, this final rule removes the definitions of, and references to, specific officers subordinate to the Director. Concurrently with this Treasury Decision, ATF Order 1130.20 is being published. Through this Order, the Director has delegated the authorities in 27 CFR part 170 to the appropriate ATF officers and specified the ATF officers with whom applications, notices, and reports that are not ATF forms are filed.

EFFECTIVE DATE: February 2, 2001.

FOR FURTHER INFORMATION CONTACT: Lisa M. Gesser, Regulations Division, Bureau of Alcohol, Tobacco and Firearms, 650 Massachusetts Avenue NW, Washington, DC 20226, (202-927-9347) or e-mail at alctob@atfhq.atf.treas.gov.

SUPPLEMENTARY INFORMATION:

Background

Pursuant to Treasury Order 120-01 (formerly 221), dated June 6, 1972, the Secretary of the Treasury delegated to the Director of the Bureau of Alcohol, Tobacco and Firearms (ATF), the authority to enforce, among other laws, the provisions of chapter 51 of the Internal Revenue Code of 1986 (IRC). The Director has subsequently redelegated certain of these authorities to appropriate subordinate officers by way of various means, including by regulation, ATF delegation orders, regional directives, or other delegation documents. As a result, to ascertain what particular officer is authorized to perform a particular function under chapter 51, each of these various delegation instruments must be consulted. Similarly, each time a delegation of authority is revoked or redelegated, each of the delegation documents must be reviewed and amended as necessary.

ATF has determined that this multiplicity of delegation instruments complicates and hinders the task of determining which ATF officer is authorized to perform a particular function. ATF also believes these multiple delegation instruments exacerbate the administrative burden associated with maintaining up-to-date delegations, resulting in an undue delay in reflecting current authorities.

Accordingly, this final rule rescinds all authorities of the Director in 27 CFR part 170 that were previously delegated and places those authorities with the “appropriate ATF officer.” Most of the authorities of the Director that were not previously delegated are also placed with the “appropriate ATF officer.” Along with this final rule, ATF is publishing ATF Order 1130.20, Delegation Order—Delegation of the Director's Authorities in Part 170, Miscellaneous Regulations Relating To Liquor, which delegates certain of these authorities to the appropriate organizational level. The effect of these changes is to consolidate all delegations of authority in part 170 into one delegation instrument. This action both simplifies the process for determining which ATF officer is authorized to perform a particular function and facilitates the updating of delegations in the future. As a result, delegations of authority will be reflected in a more timely and user-friendly manner.

In addition, this final rule amends part 170 to provide that the submission of documents other than ATF forms (such as letterhead applications, notices and reports) must be filed with the “appropriate ATF officer” identified in ATF Order 1130.20. These changes will facilitate the identification of the officer with whom forms and other required submissions are filed.

This final rule also makes various technical amendments to Subpart C of 27 CFR part 170. Specifically, the authority citation for part 170 has been removed and the authority citation for Subpart C has been revised. In addition, a new § 170.42 is added to recognize the authority of the Director to delegate regulatory authorities in part 170 and to identify ATF Order 1130.20 as the instrument reflecting such delegations. Also, § 170.43 is amended to provide that the instructions for an ATF form identify the ATF officer with whom it must be filed. In addition, § 170.43 is amended to correct the address to which requests for forms should be mailed.

ATF intends to make similar changes in delegations to all other parts of 27 CFR through separate rulemakings. By amending the regulations part by part, rather than in one large rulemaking document and ATF Order, ATF minimizes the time expended in notifying interested parties of current delegations of authority.

Paperwork Reduction Act

The provisions of the Paperwork Reduction Act of 1995, Public Law 104-13, 44 U.S.C. Chapter 35, and its implementing regulations, 5 CFR part 1320, do not apply to this final rule because there are no new or revised recordkeeping or reporting requirements.

Regulatory Flexibility Act

Because no notice of proposed rulemaking is required for this rule under the Administrative Procedures Act (5 U.S.C. 553), the provisions of the Regulatory Flexibility Act (5 U.S.C. 601 et seq.) do not apply. We sent a copy of this final rule to the Chief Counsel for Advocacy of the Small Business Administration in accordance with 26 U.S.C. 7805(f). We received a comment about specifying the reason why the Regulatory Flexibility Act does not apply and have addressed their concern.

Executive Order 12866

It has been determined that this final rule is not a significant regulatory action as defined in Executive Order 12866. Accordingly, this proposal is not subject to the analysis required by this Executive Order.

Administrative Procedure Act

Because this final rule merely makes technical amendments and conforming changes to improve the clarity of the regulations, it is unnecessary to issue this final rule with notice and public procedure under 5 U.S.C. 553(b). Similarly, because of the nature of this final rule, good cause is found that it is unnecessary to subject this final rule to the effective date limitation of 5 U.S.C. 553(d).

Drafting Information

The principal author of this document is Lisa M. Gesser, Regulations Division, Bureau of Alcohol, Tobacco and Firearms.

List of Subjects in 27 CFR Part 170

Alcohol and alcoholic beverages, Authority delegations, Distilled spirits, Liquors, Packaging and containers, Penalties, Reporting and recordkeeping requirements, Seizures and forfeitures, Stills.

Authority and Issuance

Title 27, Chapter I, of the Code of Federal Regulations is amended as follows:

PART 170—MISCELLANEOUS REGULATIONS RELATING TO LIQUOR

Paragraph 1. Remove the authority citation for part 170 and revise the authority citation for Subpart C to read as follows:

Authority: 26 U.S.C. 5002, 5101, 5102, 5179, 5291, 5601, 5615, 5687, 7805.

§ 170.42 [Added]

Par. 2. Add a new § 170.42 in Subpart C to read as follows:

§ 170.42 Delegations of the Director.

All of the regulatory authorities of the Director contained in this part are delegated to appropriate ATF officers. These ATF officers are specified in ATF Order 1130.20, Delegation Order—Delegation of the Director's Authorities in 27 CFR Part 170—Miscellaneous Regulations Relating to Liquor. ATF delegation orders, such as ATF Order 1130.20, are available to any interested person by mailing a request to the ATF Distribution Center, P.O. Box 5950, Springfield, Virginia 22150-5950, or by accessing the ATF web site (http://www.atf.treas.gov/).

§§ 170.43, 170.47, 170.49 [Amended]

Par. 3. Amend part 170 by removing the word “Director” or the words “regional director (compliance)” each place they appear and add, in their place, the words “appropriate ATF officer” in the following places:

a. Section 170.43(a);

b. Section 170.47(a) and (c); and

c. Section 170.49(a), (b) and (c).

§ 170.43 [Amended]

Par. 4. Amend § 170.43 as follows:

a. Add the sentence “The form will be filed in accordance with the instructions for the form.” at the end of paragraph (a);

b. Remove paragraph (b); and

c. Redesignate paragraph (c) as paragraph (b) and revise it to read as follows:

§ 170.43 Forms prescribed.

* * * * *

(b) Forms may be requested from the ATF Distribution Center, P.O. Box 5950, Springfield, Virginia 22150-5950, or by accessing the ATF web site (http://www.atf.treas.gov/).

* * * * *

§ 170.45 [Amended]

Par. 5. Amend § 170.45 by removing the definitions of “ATF officer” and “Regional director (compliance)” and by adding and listing alphabetically, the new definition, “Appropriate ATF officer,” to read as follows:

§ 170.45 Meaning of Terms.

* * * * *

Appropriate ATF Officer. An officer or employee of the Bureau of Alcohol, Tobacco and Firearms (ATF) authorized to perform any functions relating to the administration or enforcement of this part by ATF Order 1130.20, Delegation Order—Delegation of the Director's Authorities in 27 CFR Part 170 “ Miscellaneous Regulations Relating to Liquor.

* * * * *

§ 170.55 [Amended]

Par. 6. In § 170.55, revise paragraph (a) and the first sentence of paragraph (c) to read as follows:

§ 170.55 Registry of stills and distilling apparatus.

(a) General. Every person having possession, custody, or control of any still or distilling apparatus set up shall, immediately on its being set up, register the still or distilling apparatus, except that a still or distilling apparatus not used or intended for use in the distillation, redistillation, or recovery of distilled spirits is not required to be registered. Registration may be accomplished by describing the still or distilling apparatus on the registration or permit application prescribed in this chapter for qualification under 26 U.S.C. chapter 51 or, if qualification is not required under 26 U.S.C. chapter 51, on a letter application, and filing the application with the appropriate ATF officer. Approval of the application by the appropriate ATF officer will constitute registration of the still or distilling apparatus.

* * * * *

(c) Change in location or ownership. Where any distilling apparatus registered under this section is to be removed to another location, sold or otherwise disposed of, the registrant shall, prior to the removal or disposition, file a letter notice with the appropriate ATF officer. * * *

§ 170.59 [Amended]

Par. 7. Amend the last sentence of § 170.59 by adding the word “appropriate” in front of the words “ATF officer.”

Signed: October 30, 2000.
Bradley A. Buckles,
Director.
Approved: December 14, 2000.
Helen B. Belt,
Acting Deputy Assistant Secretary (Regulatory, Tariff and Trade Enforcement).

[FR Doc. 01-2782 Filed 2-1-01; 8:45 am]

BILLING CODE 4810-31-P